DEPARTMENT OF AGRICULTURE

Forest Service

Eldorado National Forest; California; Freds Fire Reforestation Project

AGENCY: Forest Service, USDA.

ACTION: Notice of intent to prepare an environmental impact statement.

SUMMARY: The USDA, Forest Service, Eldorado National Forest will prepare an environmental impact statement (EIS) to restore, reforest, and reduce fuels on approximately 4,300 acres that burned in the Freds Fire of 2004. The Freds Fire Reforestation project area is located in El Dorado County, California, on the Eldorado National Forest, Placerville and Pacific Ranger Districts. The project area is located immediately north of U.S. Highway 50, near the town of Kyburz. The legal description is: Township 11 North, Range 14 East, Sections 13, 14, 23, 24, 25; Township 11 North, Range 15 East, Sections 14-23, 27-30; Township 11 North, Range 16 East, Sections 17-20, 30, MDM.

DATES: Comments concerning the scope of the analysis must be received by May 19, 2006. The draft environmental impact statement is expected in July 2006 and the final environmental impact statement is expected in October 2006.

ADDRESSES: Send written comments to Kathryn D. Hardy, Placerville Ranger District, 4260 Eight Mile Road, Camino, CA 95709, Attention: Freds Fire Reforestation Project.

FOR FURTHER INFORMATION CONTACT: Robert Carroll, Project Leader, Placerville Ranger District, 4260 Eight Mile Road, Camino, CA 95709, or by telephone at 530-647-5386.

SUPPLEMENTARY INFORMATION:

Purpose and Need for Action

On areas impacted by the Freds Fire of 2004 the purpose of the project is to: 1. Reestablish a forested landscape and promote its survival and growth; 2. incorporate fuel treatments to reduce wildfire spread and intensity or interrupt fire spread; and 3. restore aquatic and riparian habitats to improve water quality and provide for the native plant and animal species associated with these ecosystems. The Freds Fire resulted in adverse effects to forest resources such as soil, riparian areas, and wildlife habitat, and caused extensive tree mortality. Removal of most of the fire-killed trees occurred in 2005. Live and dead trees remain, distributed across the landscape as described in the Freds Fire Restoration FEIS. Without additional treatment to restore the fire area, additional impacts are likely over the short and long term. The goal of this project is to move the project area more quickly toward desired future conditions for the land allocations within the fire area, as defined by the Sierra Nevada Forest Plan Amendment (SNFP). These land allocations are threat zone, defense zone, general forest, protected activity centers for spotted owls, spotted owl home range core areas, and riparian conservation areas adjacent to perennial, seasonal and ephemeral streams.

Proposed Action

The proposed action would consist of combinations of site preparation, reforestation, release, noxious weed, and fuel treatments. Site preparation treatments would be by chemical methods, utilizing ground-based herbicide applications (glyphosate or triclopyr). Reforestation treatments would include planting and re-planting if needed. Release treatments would include hand grubbing and ground-based herbicide (glyphosate, triclopyr, or hexazinone) applications. Noxious weed treatments would include hand treatments by manual and chemical (glyphosate and clopyralid) methods. Fuel treatments would include manual and chemical methods. No road construction is proposed.

The proposed action is consistent with the 1989 Eldorado National Forest Land and Resource Management Plan as amended by the Sierra Nevada Forest Plan Amendment Record of Decision (2004).

Possible Alternatives

Other alternatives will be developed based on significant issues identified during the scoping process for the environmental impact statement. All alternatives will need to respond to the specific condition of providing benefits equal to or better than the current condition. Alternatives being considered at this time include: (1) The Proposed Action and (2) No Action.

Responsible Official

Kathryn D. Hardy, District Ranger, Placerville Ranger District, Eldorado National Forest, is the responsible official. As the responsible official she will document the decision and reasons for the decision in the Record of Decision. That decision will be subject to Forest Service appeal regulations (36 CFR part 215).

Nature of Decision To Be Made

The decision to be made is whether to adopt and implement the proposed action, an alternative to the proposed action, or take no action to plant trees, take steps to promote their survival and growth, or conduct fuel treatments.

Scoping Process

Public participation will be especially important at several points during the analysis. The Forest Service will be seeking information, comments, and assistance from the Federal, State, and local agencies and other individual or organizations who may be interested in or affected by the proposed action. To facilitate public participation, information about the proposed action will be mailed to all who express interest in the proposed action and notification of the public scoping period will be published in the Mountain Democrat, Placerville, CA.

Comments submitted during the scoping process should be in writing and should be specific to the proposed action. The comments should describe as clearly and completely as possible any issues the commenter has with the proposal. The scoping process includes:

(a) Identifying potential issues;

(b) Identifying issues to be analyzed in depth.

(c) Eliminating nonsignificant issues or those previously covered by a relevant previous environmental analysis;

(d) Exploring additional alternatives;

(e) Identifying potential environmental effects of the proposed action and alternatives.

A public meeting will be held on Tuesday, May 9, 2006, from 7 p.m. to 9 p.m. at the County Fire Station 16, Kyburz, California.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21) The final EIS is scheduled to be completed in June, 2005. In the final EIS, The Forest Service is required to respond to substantive comments received during the comment period that pertain to the environmental consequences discussed in the draft EIS and applicable laws, regulations, and policies considered in making the decision regarding this proposal.

Dated: April 6, 2006.
Judie L. Tartaglia,
Acting Forest Supervisor.

[FR Doc. 06-3539 Filed 4-12-06; 8:45 am]

BILLING CODE 3410-11-M